DEPARTMENT OF DEFENSE

Department of the Navy

Notice of Intent To Grant Partially Exclusive Patent License; Elemental Wireless, LLC

AGENCY: Department of the Navy, DoD.

ACTION: Notice.

SUMMARY: The Department of the Navy herby gives notice of its intent to grant to Elemental Wireless, LLC., a revocable, nonassignable, partially exclusive license in the United States to practice the Government-Owned inventions described in U.S. Patent Numbers 5,528,612 entitled “Laser with Multiple Gain Elements”, issue date June 18, 1996// U.S. Patent Number 5,530,711 entitled “Low threshold diode-pumped tunable dye laser”, issue date June 25, 1996// U.S. Patent Number 5,541,946 entitled “Laser with multiple gain elements pumped by a single excitation source”, issue date July 30, 1996// U.S. Patent Number 6,759,303 entitled “Complementary vertical bipolar junction transistors fabricated of silicon-on-sapphire utilizing wide base PNP transistors”, issue date July 6, 2004.

DATES: Anyone wishing to object to the grant of this license must file written objections along with supporting evidence, if any, not later than January 10, 2008.

ADDRESSES: Written objections are to be filed with the Office of Research and Technology Applications, Space and Naval Warfare Systems Center, Code 73120, 53560 Hull St., San Diego, CA 92152-5048.

FOR FURTHER INFORMATION CONTACT: Stephen H. Lieberman, Ph.D., Head, Office of Research and Technology Applications, Space and Naval Warfare Systems Center, Code 73120, 53560 Hull St., San Diego, CA 92152-5048, telephone 619-553-2778, e-mail: stephen.lieberman@navy.mil.

(Authority: 35 U.S.C. 207, 37 CFR part 404.)

Dated: December 18, 2007.
T.M. Cruz,
Lieutenant, Judge Advocate General's Corps, U.S. Navy, Federal Register Liaison Officer.

[FR Doc. E7-24921 Filed 12-21-07; 8:45 am]

BILLING CODE 3810-FF-P